DEPARTMENT OF THE TREASURY

Submission for OMB Review; Comment Request

February 18, 2009

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before March 26, 2009 to be assured of consideration.

Internal Revenue Service (IRS)

OMB Number: 1545-XXXX.

Type of Review: New Collection.

Title: Form 13997, Validating Your TIN and Reasonable Cause.

Form: 13997.

Description: Under the provisions of Internal Revenue Code Section (IRC § ) 6039E, Information Concerning Resident Status, individuals are required to provide certain information (see IRC § 6039E(b)) with their application for a U.S. passport or with their application for permanent U.S. residence. This form will be an attachment to Letter 4318 that is being drafted to inform the individual about the IRC provisions, the penalty, and to request them to complete this form and return it to the IRS.

Respondents: Individuals or Households.

Estimated Total Burden Hours: 2,000 hours.

Clearance Officer: Glenn P. Kirkland, (202) 622-3428, Internal Revenue Service, Room 6516, 1111 Constitution Avenue, NW., Washington, DC 20224.

OMB Reviewer: Shagufta Ahmed (202) 395-7873, Office of Management and Budget, Room 10235, New Executive Office Building, Washington, DC 20503.

Robert Dahl,
Treasury PRA Clearance Officer.

[FR Doc. E9-3900 Filed 2-23-09; 8:45 am]

BILLING CODE 4830-01-P